DEPARTMENT OF THE INTERIOR

Fish and Wildlife Service

Notice of Receipt of Applications for Endangered Species Recovery Permit

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We, the Fish and Wildlife Service, solicit review and comment from local, State, and Federal agencies, and the public on the following permit requests.

DATES: Comments on these permit applications must be received on or before October 3, 2002 to receive consideration by us.

ADDRESSES: Written data or comments should be submitted to the Chief, Endangered Species, Ecological Services, Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION: Permit No.: TE-058629.

Applicant: Peggy Cheatham, Roseburg, Oregon.

The applicant requests a permit to take (harass, hold, and release) the Columbian white-tailed deer (Odocoileus virginianus leucurus) in conjunction with rehabilitation efforts in Douglas County, Oregon for the purpose of enhancing its survival.

Permit No.: TE-042064.

Applicant: Cecilia Meyer, San Diego, California.

The permittee requests an amendment to take (harass by survey, collect, and sacrifice) the Conservancy fairy shrimp (Branchinecta conservatio), the San Diego fairy shrimp (Branchinecta sandiegonensis), and the Riverside fairy shrimp (Streptocephalus wootoni) in conjunction with surveys in southern California for the purpose of enhancing their survival.

Permit No.: TE-778195.

Applicant: Helix Environmental Planning, Inc., La Mesa, California.

The permittee requests an amendment to take (collect, translocate, and retain) the Riverside fairy shrimp (Streptocephalus wootoni) and the San Diego fairy shrimp (Branchinecta sandiegonensis) in conjunction with habitat restoration activities throughout the range of each species in California for the purpose of enhancing their survival.

Permit No.: TE-060175.

Applicant: Teresa Newkirk, La Quinta, California.

The applicant requests a permit to take (harass by survey and monitor nests) the southwestern willow flycatcher (Empidonax traillii extimus), and (monitor nests) the least Bell's vireo (Vireo bellii pusillus) in conjunction with surveys in San Diego, Los Angeles, Orange, Riverside, San Bernardino, and Ventura Counties, California for the purpose of enhancing their survival.

Permit No.: TE-056222.

Applicant: Paul Severns, Springfield, Oregon.

The applicant requests a permit to take (survey by pursuit) the Fender's blue butterfly (Icaricia icarioides fenderi) in conjunction with removing/reducing to possession the Lupinus sulphureus kincaidii (Kincaid's lupine) in Polk and Lane Counties, Oregon for the purpose of enhancing their survival.

Permit No.: TE-045994.

Applicant: Geological Survey, Biological Research Division, Western Ecological Research Center, San Diego, California.

The permittee requests an amendment to take (harass by survey, tag, mark, and collect) the mountain yellow-legged frog (Rana muscosa), and take (harass by survey and collect) the tidewater goby (Eucyclogobius newberryi) in conjunction with research throughout the range of each species for the purpose of enhancing their survival.

Permit No.: TE-009018.

Applicant: Rancho Santa Ana Botanic Garden, Claremont, California.

The permittee requests an amendment to remove/reduce to possession the Ambrosia pumila (San Diego Ambrosia), Arabis hoffmannii (Hoffman's rockcress), Arctostaphylos confertiflora (Santa Rosa island manzanita), Astragalus jaegerianus (Lane mountain milk-vetch), Astragalus pycnostachyus var. lanosissimus (Ventura Marsh milk-vetch), Berberis pinnata ssp. insularis (Island barberry), Castilleja mollis (Soft-leaved paintbrush), Caulanthus californicus (California jewelflower), Chorizanthe pungens var. hartwegiana (Ben Lomond spineflower), Chorizanthe robusta vars. robusta and hartwegii (Robust spineflower), Cirsium fontinale var. obispoense (Chorro Creek bog thistle), Cirsium loncholepis (La Graciosa thistle), Clarkia speciosa spp. immaculata (Pismo clarkia), Cupressus abramsiana (Santa Cruz cypress), Eriastrum hooveri (Hoover's woolly-star), Eriodictyon altissimum (Indian Knob mountain balm), Eriodictyon capitatum (Lompoc yerba santa), Erysimum menziesii vars. menziesii and yadoni (Menzies' wallflower), Erysimum teretifolium (Ben Lomond wallflower), Galium buxifolium (Island bedstraw), Gilia tenuiflora spp. arenaria (Monterey gilia), Gilia tenuiflora spp. hoffmannii (Hoffmann's slender-flowered gilia), Hemizonia incresens spp. villosa (Gaviota tarplant), Lasthenia conjugens (Contra Costa goldfields), Layia carnosa (Beach layia), Lembertia congdonii (San Joaquin wooly-threads), Lupinus nipomensis (Nipomo Mesa lupine), Lupinus tidestromii (Clover lupine), Malacothamnus fasciculatus var. nesioticus (Santa Cruz Island bushmallow), Malacothrix indecora (Santa Cruz Island malocothrix), Malacothrix squalida (Island malocothrix), Nitrophila mohavensis (Amargosa niterwort), Oenothera avita ssp. eurekensis (Eureka Valley evening-primrose), Phacelia insularis ssp. insularis (Island phacelia), Piperia yadonii (Yadon's piperia), Potentilla hickmanii (Hickman's potentilla), Rorippa gambellii (Gambel's watercress), Suaeda californica (California seablite), Thysanocarpus conchuliferus (Santa Cruz Island fringepod), and Trifolium trichocalyx (Monterey clover) in conjunction with restoration efforts throughout the range of each species in California for the purpose of enhancing their survival.

Permit No.: TE-816187.

Applicant: David Cook, Santa Rosa, California.

The permittee requests an amendment to take (harass by survey, mark, collect tissue samples, release, and recapture) the Sonoma distinct population segment of the California tiger salamander (Ambystoma californiense) in conjunction with ecology, distribution, and genetics research in Sonoma County, California for the purpose of enhancing its survival.

Permit No.: TE-768251.

Applicant: Biosearch Wildlife Surveys, Santa Cruz, California.

The permittee requests an amendment to take (harass by survey, capture, handle, mark, collect tissue samples or small individuals, release, and collect voucher specimens) the Sonoma distinct population segment of the California tiger salamander (Ambystoma californiense) in conjunction with ecology, distribution, and genetics research in Sonoma County, California for the purpose of enhancing its survival.

Permit No.: TE-795938.

Applicant: EIP Associates, Sacramento, California.

The permittee requests an amendment to take (harass by survey, capture, handle, collect tissue samples or small individuals, release, and collect voucher specimens) the Sonoma distinct population segment of the California tiger salamander (Ambystoma californiense) in conjunction with ecology, distribution, and genetics research in Sonoma County, California for the purpose of enhancing its survival.

Permit No.: TE-702631.

Applicant: Regional Director, Region 1, Fish and Wildlife Service, Portland, Oregon.

The permittee requests an amendment to take the southern California distinct population segment of the mountain yellow-legged frog (Rana muscosa) and the Sonoma County distinct population segment of the California tiger salamander (Ambystoma californiense), and remove/reduce to possession Ambrosia pumila (San Diego ambrosia) in conjunction with recovery efforts throughout the range of each species for the purpose of enhancing their propagation and survival.

Permit No.: TE-060179.

Applicant: The Zoological Society of San Diego, San Diego, California.

The applicant request a permit to take (collect eggs, chicks, and adults; and band and radio-tag) the alala (Corvus hawaiiensis), Oahu elepaio (Chasiempis sandwichensis gayi), small Kauai thrush (Myadestes palmeri), ou (Psittirostra psittacea), palila (Loxoioides bailleui), Hawaii akepa (Loxops coccineus), nukupuu (Hemignathus lucidus), akiapolaau (Hemignathus munroi), Hawaii creeper (Oreomystis mana), Maui parrotbill (Pseudonestor xanthophrys), poouli (Melamprosops phaesosoma), akohekohe (Palmeria dolei), Kauai oo (Moho braccatus), and the nene (Nesochen sandvicensis) in conjunction with captive propagation and release in the State of Hawaii for the purpose of enhancing their survival.

Permit No.: TE-793644.

Applicant: Camm C. Swift, Arcadia, California.

The permittee requests an amendment to take (harass by survey, capture, handle, release, and collect voucher specimens) the Owens pupfish (Cyprinodon radiosus) and the Owens tui chub (Giula bicolor mohavensis) in conjunction with surveys in Inyo County, California for the purpose of enhancing their survival.

Permit No.: TE-023496.

Applicant: Endangered Species Recovery Program, Fresno, California.

The permittee requests an amendment to take (capture, mark, and collect biological samples) the Buena Vista Lake shrew (Sorex ornatus relictus) in conjunction with scientific research throughout the range of the species for the purpose of enhancing its survival.

Dated: August 8, 2002.
Rowan W. Gould,
Regional Director, Region 1, Portland, Oregon.

[FR Doc. 02-22171 Filed 8-30-02; 8:45 am]

BILLING CODE 4310-55-P